Title 3—

The President

Proclamation 8048 of September 8, 2006

National Historically Black Colleges and Universities Week, 2006

By the President of the United States of America

A Proclamation

Education is the cornerstone of a prosperous and hopeful Nation. By providing a quality education, Historically Black Colleges and Universities (HBCUs) help students achieve their dreams and realize the promise of America. During National Historically Black Colleges and Universities Week, we recognize the significant contributions of HBCUs and underscore our commitment to helping these distinguished institutions in the pursuit of educational excellence.

Our Nation’s Historically Black Colleges and Universities are places of higher learning and achievement that prepare new generations of Americans to become responsible leaders in their communities and around the world. HBCUs enable students to gain the skills necessary to compete for the jobs of the 21st century.

My Administration is dedicated to ensuring the continued success of HBCUs and securing the constitutional guarantees of liberty and equality to all Americans. The President’s Board of Advisors on Historically Black Colleges and Universities has worked to help these institutions benefit from Federal programs, obtain private-sector support for their endowments, and build partnerships to strengthen faculty development and cooperative research. In addition, the HBCU Capital Financing Program provides HBCUs with access to funds for the repair, renovation, and construction of educational resources and facilities.

During National Historically Black Colleges and Universities Week, we celebrate the enduring importance of HBCUs, and resolve to continue to support their critical mission.

NOW, THEREFORE, I, GEORGE W. BUSH, President of the United States of America, by virtue of the authority vested in me by the Constitution and laws of the United States, do hereby proclaim September 10 through September 16, 2006, as National Historically Black Colleges and Universities Week. I call upon public officials, educators, librarians, and all the people of the United States to observe this week with appropriate programs, ceremonies, and activities in recognition of the vital contributions of HBCUs.

IN WITNESS WHEREOF, I have hereunto set my hand this eighth day of September, in the year of our Lord two thousand six, and of the Independence of the United States of America the two hundred and thirty-first.

[FR Doc. E6-15292

Filed 9-12-06; 8:45 am]

Billing code 3195-01-P